DEPARTMENT OF TRANSPORTATION

National Highway Traffic Safety Administration

[Docket No. NHTSA-2008-0086; Notice 2]

Goodyear Dunlop Tires North America, Ltd., Grant of Petition for Decision of Inconsequential Noncompliance

Goodyear Dunlop Tires North American, Ltd, (GDTNA), has determined that certain tires that it manufactured during the period beginning January 2003 through July 2004, do not fully comply with paragraph S6.5(f) of 49 CFR 571.119 (Federal Motor Vehicle Safety Standard (FMVSS) No. 119 New Pneumatic Tires for Motor Vehicles With a GVWR of More than 4,536 Kilograms (10,000 pounds) and Motorcycles. On January 18, 2008, GDTNA filed an appropriate report pursuant to 49 CFR Part 573, Defect and Noncompliance Responsibility and Reports identifying approximately 3,050 150/60R18 Dunlop D251 motorcycle tires, produced from January 2003 through July 2004, that do not comply with the paragraphs of FMVSS No. 119 cited above.

Pursuant to 49 U.S.C. 30118(d) and 30120(h) and the rule implementing those provisions at 49 CFR part 556, GDTNA has petitioned for an exemption from the notification and remedy requirements of 49 U.S.C. Chapter 301 on the basis that this noncompliance is inconsequential to motor vehicle safety. Notice of receipt of the petition was published, with a 30-day public comment period, on May 12, 2008 in the Federal Register (73 FR 27023). No comments were received. To view the petition and all supporting documents log onto the Federal Docket Management System Web site at: http://www.regulations.gov/. Then follow the online search instructions to locate docket number “NHTSA-2008-0086.”

For further information on this decision, contact Mr. George Gillespie, Office of Vehicle Safety Compliance, the National Highway Traffic Safety Administration (NHTSA), telephone (202) 366-5299, facsimile (202) 366-7002.

Paragraph S6.5(f) of 49 CFR 571.119 requires:

S6.5(f) The actual number of plies and the composition of the ply cord material in the sidewall and, if different, in the tread area.

GDTNA described the noncompliance as incorrect labeling of construction materials information on the sidewalls. The labeling incorrectly lists “TREAD 5 PLIES 2 RAYON + 3 NYLON” and “SIDEWALL: 2 PLIES 2 RAYON” whereas this labeling should be “TREAD 4 PLIES 2 NYLON + 2 NYLON” and “SIDEWALL 2 PLIES 2 NYLON.”

GDTNA stated that it believes the noncompliance is inconsequential to motor vehicle safety because most consumers do not base tire purchase or vehicle operation on the construction information listed on the tire sidewalls, the tires meet or exceed all other applicable FMVSS, they “were designed, manufactured and tested to the standards and regulations as applicable, and they meet all of the internal and regulatory performance test requirements.”

GDTNA also stated that it has corrected the problem with the affected tire mold and that all subsequent production will have the correct material information shown on the sidewall.

GDTNA additionally stated that no customer complaints have been received.

NHTSA Decision

By way of background, the Transportation Recall, Enhancement, Accountability, and Documentation (TREAD) Act (Pub. L. 106-414) required, among other things, that the agency initiate rulemaking to improve tire label information. In response, the agency published an Advance Notice of Proposed Rulemaking (ANPRM) in the Federal Register on December 1, 2000 (65 FR 75222).

The agency received more than 20 comments on the tire labeling information required by 49 CFR Sections 571.109 and 119, Part 567, Part 574, and Part 575. In addition, the agency conducted a series of focus groups, as required by the TREAD Act, to examine consumer perceptions and understanding of tire labeling. Few of the focus group participants had knowledge of tire labeling beyond the tire brand name, tire size, and tire pressure.

Based on the information obtained from comments to the ANPRM and the consumer focus groups, we have concluded that it is likely that few consumers have been influenced by the tire construction information (number of plies and cord material in the sidewall and tread plies) provided on the tire label when deciding to buy a motor vehicle or tire.

Therefore, the agency agrees with GDTNA's statement that the incorrect markings in this case do not present a serious safety concern.¹ There is no effect of the noncompliance on the operational safety of vehicles on which these tires are mounted. In the agency's judgment, the incorrect labeling of the tire construction information will have an inconsequential effect on motor vehicle safety because most consumers do not base tire purchases or vehicle operation parameters on the number of plies in the tire. In addition, the tires are certified to meet all the performance requirements of FMVSS No. 119.

¹ This decision is limited to its specific facts. As some commenters on the ANPRM noted, the existence of steel in a tire's sidewall can be relevant to the manner in which it should be repaired or retreaded.

In consideration of the foregoing, NHTSA has decided that GDTNA has met its burden of persuasion that the subject FMVSS No. 119 labeling noncompliance is inconsequential to motor vehicle safety. Accordingly, GDTNA's petition is granted and the petitioner is exempted from the obligation of providing notification of, and a remedy for, the subject noncompliance under 49 U.S.C. 30118 and 30120.

Authority: 49 U.S.C. 30118, 30120; delegations of authority at 49 CFR 1.50 and 501.8.

Issued on: July 25, 2008.
Daniel C. Smith,
Associate Administrator for Enforcement.

[FR Doc. E8-17527 Filed 7-30-08; 8:45 am]

BILLING CODE 4910-59-P